DEPARTMENT OF VETERANS AFFAIRS

[OMB Control No. 2900-0002]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before December 16, 2002.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0002.”

Send comments and recommendations concerning any aspect of the information collection to VA's OMB Desk Officer, OMB Human Resources and Housing Branch, New Executive Office Building, Room 10235, Washington, DC 20503, (202) 395-7316. Please refer to “OMB Control No. 2900-0002” in any correspondence.

SUPPLEMENTARY INFORMATION:

Title: Income—Net Worth and Employment Statement (In support of Claim for Total Disability Benefits), VA Form 21-527.

OMB Control Number: 2900-0002.

Type of Review: Extension of a currently approved collection.

Abstract: VA Form 21-527 is used by claimant to submit a supplemental claim for disability pension or disability compensation based on the individual's unemployability. The information requested is necessary to determine veteran's eligibility to these benefits.

An agency may not conduct or sponsor, and a person is not required to respond to a collection of information unless it displays a currently valid OMB control number. The Federal Register Notice with a 60-day comment period soliciting comments on this collection of information was published on August 26, 2002, at page 54843.

Affected Public: Individuals or households.

Estimated Annual Burden: 104,440 hours.

Estimated Average Burden Per Respondent: 60 minutes.

Frequency of Response: On occasion.

Estimated Number of Respondents: 104,440.

Dated: November 6, 2002.
By direction of the Secretary.
Loise Russell,
Acting Director, Records Management Service.

[FR Doc. 02-28978 Filed 11-14-02; 8:45 am]

BILLING CODE 8320-01-P